DEPARTMENT OF TRANSPORTATION

Pipeline and Hazardous Materials Safety Administration

[Docket No. PHMSA-2014-0014]

Pipeline Safety: Public Workshop on Pipeline Safety Management Systems

AGENCY: Pipeline and Hazardous Materials Safety Administration, DOT.

ACTION: Notice of public workshop.

SUMMARY: This notice is announcing a one-day public workshop to discuss an emerging Pipeline Safety Management Systems (PSMS) national consensus standard. The workshop will include participation from all major pipeline sectors, state and Federal regulators, the National Transportation Safety Board, and public safety advocates. This workshop will translate the concepts explored in the first PSMS workshop by detailing how those concepts are advanced in the emerging standard.

DATES: The public workshop will be held on Wednesday, July 2, 2014, from 9:00 a.m. to 5:00 p.m. EST. Written comments must be received by August 15, 2014.

ADDRESSES: The workshop will be held at the Westin Alexandria, 400 Courthouse Square, Alexandria, VA 22314, in the Edison rooms ABCD. Hotel reservations under the “United States Department of Transportation—SMS Workshop” room block, can be made at 703-253-8600.

The meeting agenda and any additional information will be published on the PHMSA home page Web site at (http://www.phmsa.dot.gov/pipeline), and on the PHMSA meeting page Web site https://primis.phmsa.dot.gov/meetings/MtgHome.mtg?mtg=99.

Registration: Members of the public may attend this free workshop. To help assure that adequate space is provided, all attendees should register for the workshop in advance at https://primis.phmsa.dot.gov/meetings/MtgHome.mtg?mtg=99.

Comments: Members of the public may also submit written comments either before or after the workshop. Comments should reference Docket No. PHMSA-2014-0014. Comments may be submitted in the following ways:

• E-Gov Web site: http://www.regulations.gov. This site allows the public to enter comments on any Federal Register notice issued by any agency. Follow the instructions for submitting comments.

• Fax: 1-202-493-2251.

• Mail: Docket Management System, U.S. Department of Transportation (DOT), 1200 New Jersey Avenue SE., Room W12-140, Washington, DC 20590.

Hand Delivery: DOT Docket Management System, Room W12-140, on the ground floor of the West Building, 1200 New Jersey Avenue SE., Washington, DC between 9:00 a.m. and 5:00 p.m., Monday through Friday, except Federal holidays.

Instructions: Identify the docket number at the beginning of your comments. If you submit your comments by mail, submit two copies. If you wish to receive confirmation that PHMSA has received your comments, include a self-addressed stamped postcard. Internet users may submit comments at http://www.regulations.gov.

Note: Comments will be posted without changes or edits to http://www.regulations.gov including any personal information provided. Please see the Privacy Act Statement heading below for additional information.

Privacy Act Statement

Anyone may search the electronic form of all comments received for any of our dockets. You may review DOT's complete Privacy Act Statement in the Federal Register published April 11, 2000 (65 FR 19476).

Information on Services for Individuals With Disabilities

For information on facilities or services for individuals with disabilities, or to request special assistance at the meeting, please contact Nancy White, Office of Pipeline Safety, at 202-366-1419 or by email at nancy.white@dot.gov.

FOR FURTHER INFORMATION CONTACT: Ms. Nancy White, Office of Pipeline Safety, at 202-366-1419 or by email at nancy.white@dot.gov, regarding the subject matter of this notice.

SUPPLEMENTARY INFORMATION: This one-day public workshop will be to discuss an emerging Pipeline Safety Management Systems (PSMS) national consensus standard. The workshop will include participation from all major pipeline sectors, state and Federal regulators, the National Transportation Safety Board, and public safety advocates. A PSMS is a formal framework for a pipeline operator to monitor, measure and improve pipeline safety performance continuously over time and ensure that senior company management is actively fostering a safety culture throughout its operations. This workshop will translate the concepts explored in the first PSMS workshop by detailing how those concepts are advanced in the emerging standard.

The details on this workshop, including the location, times, and agenda items, will be available on the meeting page (https://primis.phmsa.dot.gov/meetings/MtgHome.mtg?mtg=99) as they become available. Please note that the public workshop will be webcast. Attendees, both in person and by webcast, are strongly encouraged to register to help ensure accommodations are adequate.

Presentations will be available online at the registration page and also be posted in the E-Gov Web site: http://www.regulations.gov, at docket number PHMSA-2014-0014 within 30 days following the workshop.

Authority: 49 CFR 1.97.

Issued in Washington, DC, on June 10, 2014.
Alan K. Mayberry,
Deputy Associate Administrator for Policy and Programs.

[FR Doc. 2014-14001 Filed 6-13-14; 8:45 am]

BILLING CODE 4910-60-P